DEPARTMENT OF TRANSPORTATION

Federal Highway Administration

23 CFR Part 973

[Docket Number FHWA-2025-0018]

RIN 2125-AG24

Rescinding Regulations Regarding Management Systems Pertaining to the Bureau of Indian Affairs and the Indian Reservation Roads Program

AGENCY: Federal Highway Administration (FHWA), Department of Transportation (DOT).

ACTION: Final rule.

SUMMARY: FHWA is rescinding the regulations regarding the Federal Lands Highway Program, and the management systems for the Bureau of Indian Affairs and the Indian Reservation Roads Program.

DATES: This final rule is effective December 17, 2025.

FOR FURTHER INFORMATION CONTACT: For questions about this rule, please contact Corey Bobba, Office of Federal Lands Highways, (202) 366-9489, corey.bobba@dot.gov. For legal questions, please contact Ms. Michelle Andotra, FHWA Office of Chief Counsel, (404) 562-3679, or via email at Michelle.Andotra@dot.gov. Office hours for FHWA are from 8:00 a.m. to 4:30 p.m., eastern time (E.T.), Monday through Friday, except Federal holidays.

SUPPLEMENTARY INFORMATION:

Electronic Access and Filing

This document, as well as the notice of proposed rulemaking (NPRM), and all comments received may be viewed online at www.regulations.gov using the docket number listed above. Electronic retrieval assistance and guidelines are available on the website. It is available 24 hours each day, 365 days each year. An electronic copy of this document may also be downloaded from the Office of Federal Register's website at www.federalregister.gov and the U.S. Government Publishing Office's website at www.GovInfo.gov.

I. General Discussion

FHWA is rescinding the rule that established regulations at 23 CFR part 973 concerning the Bureau of Indian Affairs and the Indian Reservation Roads Program, which was issued on February 27, 2004, at 69 FR 9490. That rule provided for the development and implementation of safety, bridge, pavement, and congestion management systems for transportation facilities providing access to Indian lands and funded under the Federal Lands Highway Program (FLHP) as required by the Transportation Equity Act for the 21st Century (TEA-21) (Pub. L. 105-178) (June 9, 1998). FHWA has determined that this part is unnecessary and is rescinding it in full.

Section 1115(d)(1) of TEA-21 amended the version of 23 U.S.C. 204 that existed at the time to add a paragraph (a)(6) stating: “The Secretary and the Secretary of each appropriate Federal land management agency shall, to the extent appropriate, develop by rule safety, bridge, pavement, and congestion management systems for roads funded under the Federal lands highway program.” The roads funded under FLHP included Indian Reservation Roads. Through 23 CFR part 973, FHWA addressed the management systems for the Bureau of Indian Affairs (BIA) and the Indian Reservation Roads program. See 69 FR 9490-01.

On July 6, 2012, Congress enacted the Moving Ahead for Progress in the 21st Century Act (MAP-21) (Pub. L. 112-141). Section 1119(a) of MAP-21 removed FLHP under 23 U.S.C. 204, replacing that program with the Tribal Transportation Program (TTP) (23 U.S.C. 202), the Federal Lands Transportation Program (23 U.S.C. 203), and the Federal Lands Access Program (23 U.S.C. 204). In doing so, Congress repealed the previous version of 23 U.S.C. 204(a)(6) and replaced it with a similar provision at 23 U.S.C. 201(c)(5), which has remained unchanged. Under that provision, FHWA “and the Secretary of each appropriate Federal land management agency shall, to the extent appropriate, implement safety, bridge, pavement, and congestion management systems for facilities funded under the TTP and the Federal lands transportation program in support of asset management.”

The current regulations have become outdated due to subsequent statutory changes and have been superseded by the TTP. FHWA finds it significant that Congress, in enacting MAP-21, retained the same general requirements for asset management in 23 U.S.C. 201(c)(5) but replaced the phrase “develop by rule” with the word “implement.” To the extent that FHWA and Federal land management agencies agree that safety, bridge, pavement, and congestion management systems are appropriate for certain facilities, such systems can be implemented without the need for regulations.

On May 30, 2025, at 90 FR 22889, FHWA published an NPRM proposing to rescind Part 973 and sought comment on all aspects of that proposal. FHWA did not receive any public comments on its proposal and now adopts the proposal without change.

II. Rulemaking Analyses and Notices

A. Executive Orders 12866 (Regulatory Planning and Review), and DOT Regulatory Policies and Procedures

This rule does not meet the criteria of a “significant regulatory action” under Executive Order (E.O.) 12866, as amended. Therefore, the Office of Management and Budget (OMB) has not reviewed this rule under those orders.

This rule would rescind outdated regulations regarding management systems pertaining to the Bureau of Indian Affairs (BIA) and the Indian Reservation Roads program. FHWA does not believe there are any costs to this rulemaking. FHWA anticipates some unquantified cost-savings associated with removal of unnecessary provisions from the CFR. In addition, it could result in some cost savings for the BIA, but FHWA does not have the data to estimate the reduction in costs that would result from this rulemaking. The Agency requested comment in the NPRM on any impacts that could result from removing the provisions identified, but did not receive any additional information.

These changes would not adversely affect, in a material way, any sector of the economy. In addition, these changes would not interfere with any action taken or planned by another agency and would not materially alter the budgetary impact of any entitlements, grants, user fees, or loan programs. Consequently, a full regulatory evaluation is not required.

B. Executive Order 14192 (Unleashing Prosperity Through Deregulation)

This final rule is an E.O. 14192 deregulatory action. Cost-savings are not quantified.

C. Regulatory Flexibility Act

Under the Regulatory Flexibility Act (5 U.S.C. 601-612) (as amended by the Small Business Regulatory Enforcement Fairness Act of 1996; 5 U.S.C. 601 et seq.), agencies must prepare and make available for public comment a regulatory flexibility analysis that describes the effect of the rule on small entities (i.e., small businesses, small organizations, and small government jurisdictions). No regulatory flexibility analysis is required, however, if the head of an agency or an appropriate designee certifies that the rule will not have a significant economic impact on a substantial number of small entities. FHWA has concluded and hereby certifies that this rulemaking will not have a significant economic impact on a substantial number of small entities; therefore, an analysis is not included. This rule would only remove obsolete regulations that had provided for the development and implementation of management systems for the Indian Reservation Roads program funded under FLHP, as required by an outdated and superseded statutory provision.

D. Unfunded Mandates Reform Act

This rule does not impose unfunded mandates as defined by the Unfunded Mandates Reform Act of 1995 (Pub. L. 104-4, 109 Stat. 48) for State, local and Tribal governments, or the private sector of $100 million or more in any one year, adjusted for inflation. Thus, the rule is not subject to the requirements of sections 202 and 205 of the UMRA.

E. Executive Order 13132 (Federalism Assessment)

This action has been analyzed in accordance with the principles and criteria contained in E.O. 13132. FHWA has determined that this action does not have sufficient federalism implications to warrant the preparation of a federalism assessment. FHWA has also determined that this action does not preempt any State law or State regulation or affect the States' ability to discharge traditional State governmental functions.

F. Paperwork Reduction Act

In accordance with the Paperwork Reduction Act of 1995 (44 U.S.C. 3501-3520), an agency may not conduct or sponsor, and a person is not required to respond to, a collection of information, unless the collection displays a currently valid OMB control number. This rule is deregulatory and so would not impose any additional information collection requirements.

G. National Environmental Policy Act

FHWA has analyzed this rule pursuant to the National Environmental Policy Act (NEPA) and has determined that it is categorically excluded under 23 CFR 771.117(c)(20), which applies to the promulgation of rules, regulations, and directives. Categorically excluded actions meet the criteria for categorical exclusions under 23 CFR 771.117(a) and normally do not require any further NEPA approvals by FHWA. This rule would remove requirements regarding management systems that are currently outdated. FHWA does not anticipate any adverse environmental impacts from this rule, and no unusual circumstances are present under 23 CFR 771.117(b).

H. Executive Order 13175 (Tribal Consultation)

E.O. 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. FHWA has assessed the impact of this rule on Indian Tribes and determined that since this rulemaking would only remove outdated regulations that deal with a program that has been superseded by the TTP, this rulemaking would not have Tribal implications that require consultation under E.O. 13175 or DOT Order 5301.1A. This rule would only remove obsolete regulations, previously required by an outdated and superseded statutory provision. To the extent that FHWA and Federal land management agencies agree that management systems are appropriate for certain facilities, such systems can be implemented without the need for regulations under the authorities provided by TTP (23 U.S.C. 202), FLTP (23 U.S.C. 203), and FLAP (23 U.S.C. 204)

I. Regulation Identifier Number

A Regulation Identifier Number (RIN) is assigned to each regulatory action listed in the Unified Agenda of Federal Regulations. The Regulatory Information Service Center publishes the Unified Agenda in the spring and fall of each year. The RIN contained in the heading of this document can be used to cross reference this action with the Unified Agenda.

J. Rulemaking Summary, 5 U.S.C. 553(b)(4)

As required by 5 U.S.C. 553(b)(4), a summary of this rule can be found at www.regulations.gov, under the docket number.

List of Subjects in 23 CFR Part 973

Bridges, Congestion management, Grant programs—transportation, Highways and roads, Indian Reservation roads, Management systems, Pavement management, Public lands, Safety management, Transportation.

Issued in Washington, DC, under authority delegated in 49 CFR 1.85.
Sean McMaster,
Administrator, Federal Highway Administration.

PART 973—[REMOVED AND RESERVED]

For the reasons stated in the preamble, under the authority of 23 U.S.C. 315, FHWA removes and reserves 23 CFR part 973.

[FR Doc. 2025-19903 Filed 11-14-25; 8:45 am]

BILLING CODE 4910-22-P